FEDERAL COMMUNICATIONS COMMISSION

47 CFR Part 64

[CG Docket Nos. 03-123 and 10-51; DA 17-980]

Petition for Reconsideration of Action in Rulemaking Proceeding

AGENCY: Federal Communications Commission.

ACTION: Petition for reconsideration.

SUMMARY: A Petition for Reconsideration (Petition) has been filed in the Commission's rulemaking proceeding by the Interstate Telecommunications Relay Service Advisory Council.

DATES: Comments to the Petition must be filed on or before November 9, 2017. Reply Comments must be filed on or before November 20, 2017.

ADDRESSES: Federal Communications Commission, 445 12th Street SW., Washington, DC 20554.

FOR FURTHER INFORMATION CONTACT: Michael Scott, Consumer and Governmental Affairs Bureau, email: Michael.Scott@fcc.gov; phone: (202) 418-1264.

SUPPLEMENTARY INFORMATION: This is a summary of the Commission's document DA 17-980, released October 6, 2017. The full text of the Petition is available for viewing and copying at the FCC Reference Information Center, 445 12th Street SW., Room CY-A257, Washington, DC 20554 or may be accessed online via the Commission's Electronic Comment Filing System at: https://ecfsapi.fcc.gov/file/10921132140710/Interstate%20TRS%20Advisory%20Council%20PFR%209.21.2017%20filed.pdf. The Commission will not send a Congressional Review Act (CRA) submission to Congress or the Government Accountability Office pursuant to the CRA, 5.U.S.C. 801(a)(1)(A), because no rules are being adopted by the Commission.

Subject: Telecommunications Relay Services and Speech-to-Speech Services for Individuals with Hearing and Speech Disabilities; Structure and Practices of the Video Relay Service Program, FCC 17-86, published at 82 FR 39673, August 22, 2017 in CG Docket Nos. 03-123 and 10-51. This document is being published pursuant to 47 CFR 1.429(e). See also 47 CFR 1.4(b)(1) and 1.429(f), (g).

Number of Petitions Filed: 1.

Federal Communications Commission.
Karen Peltz Strauss,
Deputy Chief, Consumer and Governmental Affairs Bureau.

[FR Doc. 2017-23146 Filed 10-24-17; 8:45 am]

BILLING CODE 6712-01-P